DEPARTMENT OF ENERGY

10 CFR Chs. II, III, and X

48 CFR Ch. 9

Semiannual Regulatory Agenda

AGENCY: Department of Energy.

ACTION: Semiannual regulatory agenda.

SUMMARY: The Department of Energy (DOE) has prepared and is making available its portion of the semiannual Unified Agenda of Federal Regulatory and Deregulatory Actions (Agenda), including its Regulatory Plan (Plan), pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by statute, including amendments contained in the Energy Independence and Security Act of 2007 and the American Energy Manufacturing Technical Corrections Act, and programmatic needs of DOE offices.

The Internet is the basic means for disseminating the Agenda and providing users the ability to obtain information from the Agenda database. DOE's entire Fall 2016 Agenda can be accessed online by going to www.reginfo.gov. Agenda entries reflect the status of activities as of approximately November 30, 2016.

Publication in the Federal Register is mandated by the Regulatory Flexibility Act (5 U.S.C. 602) only for Agenda entries that require either a regulatory flexibility analysis or periodic review under section 610 of that Act. DOE's regulatory flexibility agenda is made up of seven rulemakings that will set energy conservation standards for the following products:

• Walk-In Coolers and Walk-In Freezers (1904-AD59)

• Residential Non-Weatherized Gas Furnaces and Mobile Home Gas Furnaces (1904-AD20)

• Commercial Water Heaters (1904-AD34)

• Commercial Packaged Boilers (1904-AD01)

• General Service Fluorescent Lamps (1904-AD09)

• Dedicated Purpose Pool Pumps (1904-AD52)

• Manufactured Housing (1904-AC11)

The Plan appears in both the online Agenda and the Federal Register and includes the most important of DOE's significant regulatory actions and a Statement of Regulatory and Deregulatory Priorities.

Steven P. Croley,
General Counsel.

Energy Efficiency and Renewable Energy—Proposed Rule Stage
Sequence No. | Title | Regulation Identifier No.
245 | Energy Conservation Standards for General Service Lamps (Reg Plan Seq No. 26) | 1904-AD09
246 | Energy Conservation Standards for Residential Non-Weatherized Gas Furnaces and Mobile Home Gas Furnaces (Reg Plan Seq No. 27) | 1904-AD20
247 | Energy Conservation Standards for Walk-In Coolers and Walk-In Freezers (Reg Plan Seq No. 28) | 1904-AD59
References in boldface appear in The Regulatory Plan in part II of this issue of the Federal Register.

Energy Efficiency and Renewable Energy—Final Rule Stage
Sequence No. | Title | Regulation Identifier No.
248 | Energy Conservation Standards for Commercial Packaged Boilers (Reg Plan Seq No. 30) | 1904-AD01
249 | Energy Conservation Standards for Ceiling Fans | 1904-AD28
250 | Energy Conservation Standards for Commercial Water Heating Equipment (Reg Plan Seq No. 31) | 1904-AD34
251 | Energy Conservation Program: Test Procedures for Walk-In Cooler and Freezer Refrigeration Systems | 1904-AD72
References in boldface appear in The Regulatory Plan in part II of this issue of the Federal Register.

Energy Efficiency and Renewable Energy—Long-Term Actions
Sequence No. | Title | Regulation Identifier No.
252 | Energy Conservation Standards for Hearth Products | 1904-AD35

Energy Efficiency and Renewable Energy—Completed Actions
Sequence No. | Title | Regulation Identifier No.
253 | Enforcement of Regional Standards for Residential Furnaces and Central Air Conditioners and Heat Pumps | 1904-AC68
254 | Energy Efficiency Standards for Residential Dehumidifiers | 1904-AC81
255 | Energy Conservation Standards for Small, Large, and Very Large Commercial Package Air Conditioning and Heating Equipment | 1904-AC95
256 | Energy Conservation Standards for Commercial Warm Air Furnaces | 1904-AD11
257 | Test Procedure for Commercial Water Heating Equipment | 1904-AD18

Defense and Security Affairs—Proposed Rule Stage
Sequence No. | Title | Regulation Identifier No.
258 | Workplace Substance Abuse Programs at DOE Sites | 1992-AA53

Defense and Security Affairs—Final Rule Stage
Sequence No. | Title | Regulation Identifier No.
259 | Chronic Beryllium Disease Prevention Program | 1992-AA39

Office of General Counsel—Final Rule Stage
Sequence No. | Title | Regulation Identifier No.
260 | Energy Conservation Program: Certification and Enforcement—Import Data Collection | 1990-AA44

DEPARTMENT OF ENERGY (DOE)

Energy Efficiency and Renewable Energy (EE)

Proposed Rule Stage

245. Energy Conservation Standards for General Service Lamps

Regulatory Plan: This entry is Seq. No. 26 in part II of this issue of the Federal Register.

RIN: 1904-AD09

246. Energy Conservation Standards for Residential Non-Weatherized Gas Furnaces and Mobile Home Gas Furnaces

Regulatory Plan: This entry is Seq. No. 27 in part II of this issue of the Federal Register.

RIN: 1904-AD20

247. Energy Conservation Standards for Walk-In Coolers and Walk-In Freezers

Regulatory Plan: This entry is Seq. No. 28 in part II of this issue of the Federal Register.

RIN: 1904-AD59

DEPARTMENT OF ENERGY (DOE)

Energy Efficiency and Renewable Energy (EE)

Final Rule Stage

248. Energy Conservation Standards for Commercial Packaged Boilers

Regulatory Plan: This entry is Seq. No. 30 in part II of this issue of the Federal Register.

RIN: 1904-AD01

249. Energy Conservation Standards for Ceiling Fans

Legal Authority: 42 U.S.C. 6295(ff); 42 U.S.C. 6291 (49)

Abstract: EPCA authorizes the Secretary to determine whether updating the statutory energy conservation standards for ceiling fans is technically feasible and economically justified and would result in significant energy savings. If these criteria are met, the Secretary may issue amended energy conservation standards for ceiling fans.

Timetable:

Action | Date | FR Cite
NPRM | 01/13/16 | 81 FR 1688
NPRM Comment Period End | 03/14/16 |
NPRM Comment Period Extended | 03/15/16 | 81 FR 13763
NPRM Comment Period Extended End | 04/14/16 |
Final Action | 11/00/16 |

Regulatory Flexibility Analysis Required: Yes.

Agency Contact: Lucy DeButts, Office of Buildings Technologies Program, EE-5B, Department of Energy, Energy Efficiency and Renewable Energy, 1000 Independence Avenue SW., Washington, DC 20585, Phone: 202 287-1604, Email: lucy.debutts@ee.doe.gov.

RIN: 1904-AD28

250. Energy Conservation Standards for Commercial Water Heating Equipment

Regulatory Plan: This entry is Seq. No. 31 in part II of this issue of the Federal Register.

RIN: 1904-AD34

251. • Energy Conservation Program: Test Procedures for Walk-In Cooler and Freezer Refrigeration Systems

Legal Authority: 42 U.S.C. 6311 et seq.

Abstract: DOE established a Working Group to negotiate amended energy conservation standards for six classes of walk-in cooler and freezer (walk-in) refrigeration systems. After holding a series of meetings as part of a negotiated rulemaking, the Working Group developed a Term Sheet containing a series of recommendations regarding potential energy conservation standards for these refrigeration systems and the current test procedure for evaluating the energy efficiency of a walk-in refrigeration system. This rulemaking proposes several test procedure amendments to implement these recommendations. These proposed amendments include certain changes to improve test procedure clarity, updating related certification and enforcement provisions to address the performance-based energy conservation standards for walk-in cooler and freezer equipment, and establishing labeling requirements that will aid manufacturers in determining which components would be considered for compliance purposes as intended for walk-in cooler and freezer applications. The proposal would also add certain equipment-specific definitions, remove the test method for refrigeration systems with hot gas defrost, and include a method to accommodate refrigeration equipment that use adaptive defrost and on-cycle variable-speed evaporator fan control.

Timetable:

Action | Date | FR Cite
NPRM | 08/17/16 | 81 FR 54926
NPRM Comment Period End | 10/17/16 |
Final Action | 12/00/16 |

Regulatory Flexibility Analysis Required: Yes.

Agency Contact: Ashley Armstrong, General Engineer, EE-5B, Department of Energy, Energy Efficiency and Renewable Energy, 1000 Independence Avenue SW., Washington, DC 20585, Phone: 202 586-6590, Email: ashley.armstrong@ee.doe.gov.

RIN: 1904-AD72

DEPARTMENT OF ENERGY (DOE)

Energy Efficiency and Renewable Energy (EE)

Long-Term Actions

252. Energy Conservation Standards for Hearth Products

Legal Authority: 42 U.S.C. 6292(a)(20) and (b); 42 U.S.C. 6295(l)(1)

Abstract: DOE is conducting a rulemaking to analyze potential energy conservation standards for hearth products. DOE is developing this rulemaking concurrent with its coverage determination for these products.

Timetable:

Action | Date | FR Cite
NPRM and Notice of Public Meeting | 02/09/15 | 80 FR 7082
NPRM Comment Period End | 04/10/15 |
NPRM Comment Period Extended | 04/13/15 | 80 FR 19569
NPRM Comment Period Extended End | 05/11/15 |
Final Action | To Be Determined

Regulatory Flexibility Analysis Required: Yes.

Agency Contact: John Cymbalsky, Phone: 202 287-1692, Email: john.cymbalsky@ee.doe.gov.

RIN: 1904-AD35

DEPARTMENT OF ENERGY (DOE)

Energy Efficiency and Renewable Energy (EE)

Completed Actions

253. Enforcement of Regional Standards for Residential Furnaces and Central Air Conditioners and Heat Pumps

Legal Authority: 42 U.S.C. 6295(o)(6)(G)(ii)(l)

Abstract: DOE has developed three separate possible approaches to enforcement of regional standards for residential furnaces and residential central air conditioners and heat pumps set forth by direct final rule published in the Federal Register on June 27, 2011. 76 FR 37549. Adoption of these regional standards was addressed on October 31, 2011. (76 FR 67037) DOE intends to select one of these three approaches, or a combination of elements in these approaches, as a framework for an enforcement plan for regional standards. DOE is also considering a possible waiver process for regional standards applicability. DOE is required to promulgate an enforcement final rule covering the enforcement of regional standards “[n]ot later than 15 months after the date of the issuance of a final rule that establishes a regional standard” (42 U.S.C. 6295(o)(6)(G)(ii)(III)). In a notice published in the Federal Register on June 13, 2014, 79 FR 33870, DOE announced that it was forming a working group under the Appliance Standards and Rulemaking Federal Advisory Committee (ASRAC) to develop proposed energy efficiency requirements for regional standards enforcement. On November 19, 2015, DOE published a notice of proposed rulemaking that included the recommendations of the working group (80 FR 72373). On July 14, 2016, DOE published a final rule. (81 FR 45387)

Completed:

Reason | Date | FR Cite
Final Action | 07/14/16 | 81 FR 45387
Final Action Effective | 08/15/16 |

Regulatory Flexibility Analysis Required: Yes.

Agency Contact: Ashley Armstrong, Phone: 202 586-6590, Email: ashley.armstrong@ee.doe.gov.

RIN: 1904-AC68

254. Energy Efficiency Standards for Residential Dehumidifiers

Legal Authority: 42 U.S.C. 6295(m) and (cc)

Abstract: EPCA requires the Secretary to determine whether updating the statutory energy conservation standards for residential dehumidifiers is technically feasible and economically justified and would result in significant energy savings. If these criteria are met, the Secretary will issue amended energy conservation standards.

Completed:

Reason | Date | FR Cite
Final Rule | 06/13/16 | 81 FR 38338
Final Rule Effective | 08/12/16 |
Final Rule; Technical Correction | 08/22/16 | 81 FR 56471
Final Rule; Technical Correction Effective | 08/22/16 |

Regulatory Flexibility Analysis Required: Yes.

Agency Contact: John Cymbalsky, Phone: 202 287-1692, Email: john.cymbalsky@ee.doe.gov.

RIN: 1904-AC81

255. Energy Conservation Standards for Small, Large, and Very Large Commercial Package Air Conditioning and Heating Equipment

Legal Authority: 42 U.S.C. 6313(a)(6)(c)(i) and (vi); 42 U.S.C. 6316; 42 U.S.C. 6295(p)(4)

Abstract: The Energy Policy and Conservation Act of 1975, as amended, requires DOE to periodically review its standards for small, large, and very large commercial package air conditioners and heating equipment (which includes commercial unitary air conditioners and heat pumps—or CUACs). Under amendments to EPCA made by the American Energy Manufacturing Technical Corrections Act of 2012, Pub. L. 112-210 (Dec. 18, 2012), DOE must review its standards for this equipment every six years and determine whether they need amending. It also requires that, for those equipment types for which more than six years have elapsed since the most recent final rules establishing or amending a standard for that equipment, DOE must publish either a notice of determination not to amend standards or a proposal to amend the applicable standard by December 31, 2013. More than six years has elapsed since the standards for this equipment were last amended. On April 1, 2015, DOE published a notice announcing that a working group, under the Appliance Standards Federal Rulemaking Advisory Committee (ASRAC), was created to potentially develop negotiated standards (80 FR 17363). DOE is conducting this rulemaking to consider amended energy conservation standards for commercial unitary air conditioners and heat pumps as required by EPCA, as amended.

Completed:

Reason | Date | FR Cite
Direct Final Rule and Accompanying SNPRM Comment Period End | 05/04/16 |
Direct Final Rule Effective | 05/16/16 |
Confirmation of Effective Date and Compliance Dates for Direct Final Rule | 05/24/16 | 81 FR 32628

Regulatory Flexibility Analysis Required: Yes.

Agency Contact: John Cymbalsky, Phone: 202 287-1692, Email: john.cymbalsky@ee.doe.gov.

RIN: 1904-AC95

256. Energy Conservation Standards for Commercial Warm Air Furnaces

Legal Authority: 42 U.S.C. 6313(a)(6)(C)(i) and (vi); 42 U.S.C. 6316; 42 U.S.C. 6295(p)(4); 42 U.S.C. 6311 (11)(A)

Abstract: EPCA, as amended by the American Energy Manufacturing Technical Corrections Act (AEMTCA) of 2012, Pub. L. 112-210 (Dec. 18, 2012), requires the Secretary to review its standards for this equipment every six years and to determine whether updating the statutory energy conservation standards for commercial warm air furnaces is technically feasible and economically justified and would save a significant amount of energy. It also requires that, for those equipment types for which more than six years have elapsed since the most recent final rules establishing or amending a standard for that equipment, DOE must publish either a notice of determination not to amend standards or a proposal to amend the applicable standards by December 31, 2013. More than six years have elapsed since the standards for this equipment were last amended. On April 1, 2015, DOE published a notice announcing the creation of a working group under the Appliance Standards Federal Rulemaking Advisory Committee (ASRAC) to potentially develop negotiated standards (80 FR 17363). DOE is conducting this rulemaking to consider amended energy conservation standards for commercial warm air furnaces as required by EPCA, as amended.

Completed:

Reason | Date | FR Cite
Direct Final Rule and Accompanying SNPRM Comment Period End | 05/04/16 |
Direct Final Rule Effective | 05/16/16 |
Confirmation of Effective Date and Compliance Date for Direct Final Rule | 05/24/16 | 81 FR 32628

Regulatory Flexibility Analysis Required: Yes.

Agency Contact: John Cymbalsky, Phone: 202 287-1692, Email: john.cymbalsky@ee.doe.gov.

RIN: 1904-AD11

257. Test Procedure for Commercial Water Heating Equipment

Legal Authority: 42 U.S.C. 6314(a)(1)(A); 42 U.S.C. 6314(a)(4)(B)

Abstract: EPCA, as amended by EISA 2007 and AEMTCA, requires the Secretary to update test procedures for commercial water heating equipment to be consistent with the amended industry test procedure so as to reflect any technological advances in this equipment and accurately represent the energy consumption of this equipment. The statute also requires DOE to consider any necessary amendments to its test procedures at least once every seven years. This rulemaking will satisfy both statutory provisions.

Completed:

Reason | Date | FR Cite
NPRM | 05/09/16 | 81 FR 28588
Final Rule | 11/10/16 | 81 FR 79261
Final Action Effective | 12/12/16 |

Regulatory Flexibility Analysis Required: Yes.

Agency Contact: Ashley Armstrong, Phone: 202 586-6590, Email: ashley.armstrong@ee.doe.gov.

RIN: 1904-AD18

DEPARTMENT OF ENERGY (DOE)

Defense and Security Affairs (DSA)

Proposed Rule Stage

258. Workplace Substance Abuse Programs at DOE Sites

Legal Authority: 41 U.S.C. 701 et seq.; 41 U.S.C. 2012, 2013, 2051, 2061, 2165, 2201b, 2201i, and 2201(p); 42 U.S.C 5814 and 5815; 42 U.S.C. 7151, 7251, and 7256; 50 U.S.C. 2401 et seq.

Abstract: The Department of Energy is amending its regulation related to workplace substance abuse programs at DOE sites. The proposed amendments would address drug and alcohol abuse, testing workers in certain sensitive positions, development and approval of a workplace substance abuse program, employee assistance programs and training. The proposed amendments would improve and strengthen the substance abuse programs and enhance consistency with advances in similar rules and other Federal drug and alcohol programs that place similar requirements on the private sector.

Timetable:

Action | Date | FR Cite
NPRM | 12/00/16 |
Final Action | 12/00/17 |

Regulatory Flexibility Analysis Required: Yes.

Agency Contact: Jacqueline D. Rogers, Industrial Hygienist, AU-11, Department of Energy, 1000 Independence Avenue SW., Washington, DC 20585, Phone: 202 586-4714, Email: jackie.rogers@hq.doe.gov.

RIN: 1992-AA53

DEPARTMENT OF ENERGY (DOE)

Defense and Security Affairs (DSA)

Final Rule Stage

259. Chronic Beryllium Disease Prevention Program

Legal Authority: 42 U.S.C. 2201(i)(3), and (p); 42 U.S.C. 2282(c); 29 U.S.C. 668; 42 U.S.C. 7107 et seq.; 50 U.S.C. 2401 et seq.; E.O. 12196

Abstract: The Department of Energy is amending its current chronic beryllium disease prevention program regulation. The proposed amendments would improve and strengthen the current provisions and continue to be applicable to DOE Federal and contractor employees who are, were, or potentially were exposed to beryllium at DOE sites.

Timetable:

Action | Date | FR Cite
NPRM | 06/07/16 | 81 FR 36704
NPRM Comment Period End | 09/06/16 |
Final Action | 10/00/17 |

Regulatory Flexibility Analysis Required: Yes.

Agency Contact: Jacqueline D. Rogers, Industrial Hygienist, AU-11, Department of Energy, 1000 Independence Avenue SW., Washington, DC 20585, Phone: 202 586-4714, Email: jackie.rogers@hq.doe.gov.

RIN: 1992-AA39

DEPARTMENT OF ENERGY (DOE)

Office of General Counsel (OGC)

Final Rule Stage

260. Energy Conservation Program: Certification and Enforcement-Import Data Collection

Legal Authority: 42 U.S.C. 6291 to 6317

Abstract: This rulemaking will provide DOE an automated mechanism to advise U.S. Customs and Border Protection (CBP) of imports that do not comply with energy conservation standards and/or to advise CBP of DOE's recommendation for conditional release of goods.

Timetable:

Action | Date | FR Cite
NPRM | 12/29/15 | 80 FR 81199
NPRM Comment Period End | 02/12/16 |
Notice of Public Meeting and NPRM Comment Period Reopened | 02/17/16 | 81 FR 8022
NPRM Comment Period Reopened End | 02/29/16 |
2nd NPRM Comment Period Reopened | 03/07/16 | 81 FR 11686
2nd NPRM Comment Period Reopened End | 03/14/16 |
3rd NPRM Comment Period Reopened | 05/16/16 | 81 FR 30217
3rd NPRM Comment Period Reopened End | 06/15/16 |
Final Action | 12/00/16 |

Regulatory Flexibility Analysis Required: Yes.

Agency Contact: Laura Barhydt, Assistant General Counsel for Enforcement, Department of Energy, Office of General Counsel, 1000 Independence Avenue SW., Washington, DC 20585, Phone: 202 287-5772, Email: laura.barhydt@hq.doe.gov.

RIN: 1990-AA44

[FR Doc. 2016-29860 Filed 12-22-16; 8:45 am]

BILLING CODE 6450-01-P